DEPARTMENT OF HOMELAND SECURITY

Federal Emergency Management Agency

44 CFR Part 67

[Docket ID FEMA-2010-0003; Internal Agency Docket No. FEMA-B-1115]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before August 23, 2010.

ADDRESSES: The corresponding preliminary Flood Insurance Rate Map (FIRM) for the proposed BFEs for each community is available for inspection at the community's map repository. The respective addresses are listed in the table below.

You may submit comments, identified by Docket No. FEMA-B-1115, to Kevin C. Long, Acting Chief, Engineering Management Branch, Mitigation Directorate, Federal Emergency Management Agency, 500 C Street, SW., Washington, DC 20472, (202) 646-2820, or (e-mail) kevin.long@dhs.gov.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Bradford County, Florida, and Incorporated Areas
Lake Crosby | Entire shoreline | None | +135 | City of Starke, Unincorporated Areas of Bradford County.
Lake Rowell | Entire shoreline | None | +135 | Unincorporated Areas of Bradford County.
Lake Sampson | Entire shoreline | None | +135 | Unincorporated Areas of Bradford County.
Unnamed Ponding Area | North boundary: Approximately 2,000 feet south of Route 100/East boundary: Approximately 1,000 feet west of Southwest 75th Avenue/South boundary: Southwest 163rd Street/West boundary: Approximately 1,500 feet east of Southwest 101st Avenue | None | +138 | Unincorporated Areas of Bradford County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Starke
Maps are available for inspection at the City Clerk's Office, 209 North Thompson Street, Starke, FL 32091.
Unincorporated Areas of Bradford County
Maps are available for inspection at the Bradford County Building and Zoning Department, 945-F North Temple Avenue, Starke, FL 32091.
Pike County, Illinois, and Incorporated Areas
Hardy Creek | Approximately 0.67 mile upstream of East Street | None | +452 | Unincorporated Areas of Pike County.
| Approximately 0.74 mile upstream of East Street | None | +452
Illinois River | Approximately 1,660 feet downstream of Bee Creek Road (River Mile 38.9) | +442 | +441 | Unincorporated Areas of Pike County.
| Approximately 0.59 mile downstream of County Route 176 North (River Mile 40.2) | +442 | +441
| Approximately 1.56 miles upstream of County Route 2400 North extended (River Mile 66.6) | +446 | +447
| Approximately 0.54 mile upstream of IL-104 (River Mile 71.9) | +447 | +448
Kiser Creek Diversion Ditch | Approximately 1,795 feet downstream of IL-96 | None | +478 | Town of New Canton.
| Approximately 1,848 feet upstream of IL-96 | None | +486
Mississippi River | Approximately 0.65 mile downstream of U.S. Route 54 (River Mile 282.5) | +462 | +463 | Unincorporated Areas of Pike County.
| Approximately 700 feet upstream of 1st Avenue extended (River Mile 312) | +477 | +479
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Town of New Canton
Maps are available for inspection at the Sny Island Drainage District, 490 North Main Street, New Canton, IL 62356.
Unincorporated Areas of Pike County
Maps are available for inspection at the Pike County Courthouse, 100 East Washington Street, Pittsfield, IL 62363.
Clay County, Indiana, and Incorporated Areas
Birch Creek—Pouges Run | Approximately 720 feet downstream of White Rock Road | None | +624 | City of Brazil, Unincorporated Areas of Clay County.
| Approximately 1.29 miles upstream of White Rock Road | None | +652
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Brazil
Maps are available for inspection at City Hall, 203 East National Avenue, Brazil, IN 47834.
Unincorporated Areas of Clay County
Maps are available for inspection at the Clay County Emergency Management Agency, Clay County Justice Center, 611 East Jackson Street, Brazil, IN 47834.
Owen County, Kentucky, and Incorporated Areas
Balls Branch (Backwater effects from Kentucky River) | From the confluence with the Kentucky River to approximately 0.4 mile upstream of Point of Rock Road | None | +495 | Unincorporated Areas of Owen County.
Big Twin Creek (Backwater effects from Kentucky River) | From the confluence with the Kentucky River to approximately 2.3 miles upstream of KY-355 | None | +478 | Unincorporated Areas of Owen County.
Cedar Creek (Backwater effects from Kentucky River) | From the confluence with the Kentucky River to approximately 1,230 feet upstream of U.S. Route 127 | None | +493 | City of Monterey, Unincorporated Areas of Owen County.
Clay Lick Creek (Backwater effects from Kentucky River) | From the confluence with the Kentucky River to approximately 780 feet upstream of the confluence with Clay Lick Creek Tributary 3 | None | +485 | City of Gratz, Unincorporated Areas of Owen County.
Clay Lick Creek Tributary 3 (Backwater effects from Kentucky River) | From the confluence with Clay Lick Creek to approximately 1,585 feet upstream of the confluence with Clay Lick Creek | None | +485 | Unincorporated Areas of Owen County.
Eagle Creek (Backwater effects from Kentucky River) | From the confluence with the Kentucky River to approximately 1.2 mile upstream of KY-227 | None | +473 | Unincorporated Areas of Owen County.
Kentucky River | At the confluence with Eagle Creek | None | +473 | City of Gratz, City of Monterey, Unincorporated Areas of Owen County.
| At approximately 3.3 miles upstream of the confluence with Balls Branch | None | +497
Little Twin Creek (Backwater effects from Kentucky River) | From the confluence with the Kentucky River to approximately 485 feet upstream of KY-325 | None | +478 | Unincorporated Areas of Owen County.
Lowderbach Branch (Backwater effects from Kentucky River) | From the confluence with the Kentucky River to approximately 0.5 mile upstream of KY-355 | None | +485 | City of Gratz, Unincorporated Areas of Owen County.
Mill Creek (Backwater effects from Kentucky River) | From the confluence with the Kentucky River to approximately 100 feet downstream of KY-355 | None | +478 | Unincorporated Areas of Owen County.
Mint Spring Branch (Backwater effects from Kentucky River) | From the confluence with Severn Creek to approximately 0.45 mile upstream of the confluence with Severn Creek | None | +489 | Unincorporated Areas of Owen County.
Severn Creek (Backwater effects from Kentucky River) | From the confluence with the Kentucky River to approximately 1.6 mile upstream of the confluence with Mint Spring Branch | None | +489 | Unincorporated Areas of Owen County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Gratz
Maps are available for inspection at City Hall, 94 Main Street, Gratz, KY 40327.
City of Monterey
Maps are available for inspection at City Hall, 610 Monterey Pike, Monterey, KY 40359.
Unincorporated Areas of Owen County
Maps are available for inspection at the Owen County Courthouse, 100 North Thomas Street, Owenton, KY 40359.
Trigg County, Kentucky, and Incorporated Areas
Barnett Creek (Backwater effects from Kentucky Lake) | From the confluence with Kentucky Lake to approximately 2,324 feet upstream of the confluence with Kentucky Lake | None | +375 | Unincorporated Areas of Trigg County.
Beechy Fork (Backwater effects from Lake Barkley) | From the confluence with Lake Barkley to approximately 0.75 mile upstream of the confluence with Lake Barkley | None | +375 | Unincorporated Areas of Trigg County.
Big Hurricane Creek (Backwater effects from Lake Barkley) | From the confluence with Lake Barkley to approximately 2,185 feet upstream of the confluence with Lake Barkley | None | +375 | Unincorporated Areas of Trigg County.
Blockhouse Creek (Backwater effects from Kentucky Lake) | From the confluence with Kentucky Lake to approximately 1,850 feet upstream of the confluence with Kentucky Lake | None | +375 | Unincorporated Areas of Trigg County.
Colson Creek (Backwater effects from Kentucky Lake) | From the confluence with Kentucky Lake to approximately 1,426 feet upstream of the confluence with Kentucky Lake | None | +375 | Unincorporated Areas of Trigg County.
Craig Branch (Backwater effects from Lake Barkley) | From the confluence with Lake Barkley to approximately 0.6 mile upstream of the confluence with Lake Barkley | None | +375 | Unincorporated Areas of Trigg County.
Crooked Creek (Backwater effects from Lake Barkley) | From the confluence with Lake Barkley to approximately 0.8 mile upstream of the confluence with Lake Barkley | None | +375 | Unincorporated Areas of Trigg County.
Cumberland River Tributary 1 (Backwater effects from Lake Barkley) | From the confluence with Lake Barkley to approximately 2,538 feet upstream of the confluence with Lake Barkley | None | +375 | Unincorporated Areas of Trigg County.
Donaldson Creek (Backwater effects from Lake Barkley) | From the confluence with Lake Barkley to approximately 1.0 mile upstream of Linton Road | None | +375 | Unincorporated Areas of Trigg County.
Donaldson Creek Tributary 1 (Backwater effects from Lake Barkley) | From the confluence with Donaldson Creek to approximately 1,200 feet upstream of the confluence with Donaldson Creek | None | +375 | Unincorporated Areas of Trigg County.
Donaldson Creek Tributary 19 (Backwater effects from Lake Barkley) | From the confluence with Donaldson Creek to approximately 1,315 feet upstream of the confluence with Donaldson Creek | None | +375 | Unincorporated Areas of Trigg County.
Dry Creek (Backwater effects from Lake Barkley) | From the confluence with Lake Barkley to approximately 0.56 mile upstream of the confluence with Lake Barkley | None | +375 | Unincorporated Areas of Trigg County.
Dry Creek I (Backwater effects from Lake Barkley) | From the confluence with Muddy Fork Little River to approximately 2,430 feet upstream of the confluence with Muddy Fork Little River | None | +375 | Unincorporated Areas of Trigg County.
Dyers Creek (Backwater effects from Lake Barkley) | From the confluence with Lake Barkley to approximately 2,335 feet upstream of the confluence with Lake Barkley | None | +375 | Unincorporated Areas of Trigg County.
Dyers Creek Tributary 1.1 (Backwater effects from Lake Barkley) | From the confluence with Dyers Creek to approximately 1,030 feet upstream of the confluence with Dyers Creek | None | +375 | Unincorporated Areas of Trigg County.
Elbow Creek (Backwater effects from Lake Barkley) | From the confluence with Lake Barkley to approximately 2,715 feet upstream of the confluence with Lake Barkley | None | +375 | Unincorporated Areas of Trigg County.
Hopson Creek (Backwater effects from Lake Barkley) | From the confluence with Lake Barkley to approximately 0.54 mile upstream of the confluence with Lake Barkley | None | +375 | Unincorporated Areas of Trigg County.
Jake Fork (Backwater effects from Lake Barkley) | From the confluence with Lake Barkley to approximately 1,407 feet upstream of the confluence with Lake Barkley | None | +375 | Unincorporated Areas of Trigg County.
Kelly Branch (Backwater effects from Lake Barkley) | From the confluence with Lake Barkley to approximately 0.57 mile upstream of the confluence with Lake Barkley | None | +375 | Unincorporated Areas of Trigg County.
Kentucky Lake | Entire shoreline within county | None | +375 | Unincorporated Areas of Trigg County.
Lake Barkley | Entire shoreline within county | None | +375 | Unincorporated Areas of Trigg County.
Laura Furnace Creek (Backwater effects from Lake Barkley) | From the confluence with Lake Barkley to approximately 0.71 mile upstream of the confluence with Lake Barkley | None | +375 | Unincorporated Areas of Trigg County.
Lick Creek (Backwater effects from Lake Barkley) | From the confluence with Lake Barkley to approximately 0.55 mile upstream of the confluence with Lake Barkley | None | +375 | Unincorporated Areas of Trigg County.
Little Creek (Backwater effects from Lake Barkley) | From the confluence with Lake Barkley to approximately 0.78 mile upstream of the confluence with Lake Barkley | None | +375 | Unincorporated Areas of Trigg County.
Little Hurricane Creek (Backwater effects from Lake Barkley) | From the confluence with Lake Barkley to approximately 2,280 feet upstream of the confluence with Lake Barkley | None | +375 | Unincorporated Areas of Trigg County.
Little River (Backwater effects from Lake Barkley) | From the confluence with Lake Barkley to approximately 4.5 miles upstream of the confluence with Lake Barkley | None | +375 | Unincorporated Areas of Trigg County.
Little River Tributary 1 (Backwater effects from Lake Barkley) | From the confluence with the Little River to approximately 1,678 feet upstream of the confluence with the Little River | None | +375 | Unincorporated Areas of Trigg County.
Little River Tributary 40 (Backwater effects from Lake Barkley) | From the confluence with the Little River to approximately 1,330 feet upstream of the confluence with the Little River | None | +375 | Unincorporated Areas of Trigg County.
Long Creek (Backwater effects from Lake Barkley) | From the confluence with Lake Barkley to approximately 0.83 mile upstream of the confluence with Lake Barkley | None | +375 | Unincorporated Areas of Trigg County.
Long Pond Branch (Backwater effects from Lake Barkley) | From the confluence with Lake Barkley to approximately 1,793 feet upstream of the confluence with Lake Barkley | None | +375 | Unincorporated Areas of Trigg County.
Muddy Fork Little River (Backwater effects from Lake Barkley) | From the confluence with Lake Barkley to approximately 0.8 mile upstream of Princeton Road | None | +375 | Unincorporated Areas of Trigg County.
North Fork Sugar Creek (Backwater effects from Kentucky Lake) | From the confluence with Kentucky Lake to approximately 0.57 mile upstream of the confluence with Kentucky Lake | None | +375 | Unincorporated Areas of Trigg County.
Pond Creek (Backwater effects from Lake Barkley) | From the confluence with Lake Barkley to approximately 0.6 mile upstream of the confluence with Lake Barkley | None | +375 | Unincorporated Areas of Trigg County.
Rhodes Creek (Backwater effects from Kentucky Lake) | From the confluence with Kentucky Lake to approximately 0.54 mile upstream of the confluence with Kentucky Lake | None | +375 | Unincorporated Areas of Trigg County.
Shaw Branch (Backwater effects from Lake Barkley) | From the confluence with Lake Barkley to approximately 1,740 feet upstream of the confluence with Lake Barkley | None | +375 | Unincorporated Areas of Trigg County.
Shelly Creek (Backwater effects from Lake Barkley) | From the confluence with Lake Barkley to approximately 0.52 mile upstream of the confluence with Lake Barkley | None | +375 | Unincorporated Areas of Trigg County.
Taylor Creek (Backwater effects from Lake Barkley) | From the confluence with Lake Barkley to approximately 2,435 feet upstream of the confluence with Lake Barkley | None | +375 | Unincorporated Areas of Trigg County.
Turkey Creek (Backwater effects from Kentucky Lake) | From the confluence with Kentucky Lake to approximately 0.54 mile upstream of the confluence with Kentucky Lake | None | +375 | Unincorporated Areas of Trigg County.
Vickers Creek (Backwater effects from Kentucky Lake) | From the confluence with Kentucky Lake to approximately 2,376 feet upstream of the confluence with Kentucky Lake | None | +375 | Unincorporated Areas of Trigg County.
West Fork Laura Furnace Creek (Backwater effects from Lake Barkley) | From the confluence with Laura Furnace Creek to approximately 1,247 feet upstream of the confluence with Laura Furnace Creek | None | +375 | Unincorporated Areas of Trigg County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Trigg County
Maps are available for inspection at the Trigg County Courthouse, 12 Court Street, Cadiz, KY 42211.
Buchanan County, Missouri, and Incorporated Areas
102 River | At the confluence with the Platte River | +847 | +848 | City of St. Joseph, Unincorporated Areas of Buchanan County.
| Approximately 1.1 mile upstream of Cook Road | +861 | +864
Bee Creek | Approximately 1.3 mile downstream of Stafford Road | +883 | +882 | Unincorporated Areas of Buchanan County.
| Approximately 360 feet upstream of Southeast Vincent Road | None | +942
Blacksnake Creek | Just upstream of Jules Street | +840 | +837 | City of St. Joseph.
| Approximately 895 feet upstream of U.S. Route 59 | +936 | +940
Brown's Branch | Approximately 1,025 feet downstream of 3rd Street | +859 | +861 | City of St. Joseph.
| Approximately 0.7 mile upstream of 3rd Street | None | +904
Castile Creek | Approximately 500 feet downstream of Missouri Route 116 | +821 | +822 | Unincorporated Areas of Buchanan County.
| Approximately 2.5 miles upstream of the confluence with Jenkins Branch | +839 | +838
Charles Street Drainage Course | Approximately 365 feet downstream of Edmund Street | +858 | +854 | City of St. Joseph.
| Approximately 147 feet upstream of 25th Street | None | +982
Contrary Creek | Approximately 1,483 feet upstream of the confluence with the Missouri River | None | +808 | City of St. Joseph, Unincorporated Areas of Buchanan County.
| Approximately 3.7 miles upstream of the confluence with the Missouri River | None | +808
| Approximately 63 feet downstream of Marie Road | None | +832
| Approximately 0.8 mile upstream of Keck Lane | None | +849
Corby Parkway Drainage Course | At the confluence with Blacksnake Creek | None | +863 | City of St. Joseph.
| Approximately 1,260 feet upstream of Corby Parkway | None | +904
East Branch Bee Creek | At the confluence with Bee Creek | None | +925 | Unincorporated Areas of Buchanan County.
| Approximately 0.9 mile upstream of Missouri Route DD | None | +944
Jenkins Branch | At the confluence with Castile Creek | +826 | +827 | Unincorporated Areas of Buchanan County.
| Approximately 1,500 feet upstream of Missouri Route H | +901 | +900
Little Third Fork Platte River | At the confluence with the Third Fork Platte River | +854 | +858 | Unincorporated Areas of Buchanan County.
| Approximately 0.5 mile upstream of County Road 135 Northeast | +861 | +862
Missouri River | Approximately 2.0 miles downstream of U.S. Route 59 | +789 | +791 | City of Rushville, City of St. Joseph.
| Approximately 4.2 miles upstream of the confluence with Blacksnake Creek | +821 | +825 | Unincorporated Areas of Buchanan County, Village of Lewis And Clark.
Mitchell Avenue Drainage Course | Just upstream of 13th Street | +841 | +849 | City of St. Joseph.
| Approximately 950 feet upstream of Frederick Avenue | +925 | +924
North Tributary to Blacksnake Creek | At the confluence with Blacksnake Creek | +918 | +921 | City of St. Joseph.
| Approximately 370 feet upstream of Miller Road | +949 | +950
North Tributary to Brown's Branch | At the confluence with Brown's Branch | +878 | +881 | City of St. Joseph.
| Approximately 78 feet upstream of 14th Street | None | +935
North Tributary to Whitehead Creek | At the confluence with Whitehead Creek | +856 | +859 | City of St. Joseph.
| Approximately 12 feet upstream of Pickett Road | None | +906
Pigeon Creek | At the confluence with the Platte River | +838 | +839 | Town of Agency, Unincorporated Areas of Buchanan County.
| Approximately 3.0 miles upstream of Missouri Route FF | +878 | +883
Platte River | Approximately 1.0 mile upstream of Missouri Route 116 | +824 | +823 | City of St. Joseph, Town of Agency.
| Approximately 1.1 mile upstream of Cook Road | +855 | +856 | Unincorporated Areas of Buchanan County.
Possum Hollow | Approximately 1,670 feet upstream of the confluence with Pigeon Creek | +838 | +839 | Town of Agency, Unincorporated Areas of Buchanan County.
| Approximately 40 feet downstream of Missouri Route H | +838 | +839
South Tributary to Whitehead Creek | Approximately 825 feet downstream of I-229 | None | +838 | City of St. Joseph.
| Approximately 106 feet downstream of Center Drive | +935 | +934
Third Fork Platte River | Approximately 1.5 mile upstream of the confluence with the Platte River | +846 | +845 | Unincorporated Areas of Buchanan County.
| Approximately 0.5 mile upstream of Missouri Route P | +874 | +873
Whitehead Creek | Approximately 30 feet downstream of I-229 | None | +829 | City of St. Joseph.
| Approximately 1.8 mile upstream of South 22nd Street | None | +888
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Rushville
Maps are available for inspection at the Buchanan County Courthouse, 411 Jules Street, St. Joseph, MO 64501.
City of St. Joseph
Maps are available for inspection at City Hall, 1100 Frederick Avenue, St. Joseph, MO 64501.
Town of Agency
Maps are available for inspection at the Town Hall, State Route FF, Agency, MO 64401.
Unincorporated Areas of Buchanan County
Maps are available for inspection at the Buchanan County Courthouse, 411 Jules Street, St. Joseph, MO 64501.
Village of Lewis And Clark
Maps are available for inspection at the Village Hall, 400 Lake Crest Drive, Rushville, MO 64484.
Gasconade County, Missouri, and Incorporated Areas
Brushy Fork (Backwater effects from Missouri River) | From the confluence with First Creek to approximately 0.64 mile upstream of the confluence with Howard Creek | +524 | +526 | Unincorporated Areas of Gasconade County.
Cole Creek (Backwater effects from Missouri River) | From the confluence with the Missouri River to approximately 1.4 mile upstream of the confluence with the Missouri River | None | +522 | Unincorporated Areas of Gasconade County.
First Creek (Backwater effects from Missouri River) | From the confluence with the Gasconade River to approximately 1,320 feet upstream of the confluence with First Creek Tributary 6 | +524 | +526 | Unincorporated Areas of Gasconade County.
First Creek Tributary 6 (Backwater effects from Missouri River) | From the confluence with First Creek to approximately 1,478 feet upstream of the confluence with First Creek | +524 | +526 | Unincorporated Areas of Gasconade County.
Frene Creek (Backwater effects from Missouri River) | From the confluence with the Missouri River to approximately 68 feet downstream of 14th Street | +518 | +519 | City of Hermann, Unincorporated Areas of Gasconade County.
Frene Creek Tributary 8 (Backwater effects from Missouri River) | From the confluence with Frene Creek to approximately 314 feet upstream of Schiefers Branch Road | +518 | +519 | City of Hermann, Unincorporated Areas of Gasconade County.
Gasconade River (Backwater effects from Missouri River) | From the confluence with the Missouri River to approximately 0.58 mile downstream of the confluence with Gasconade River Tributary 26 | +524 | +526 | Unincorporated Areas of Gasconade County.
Howard Creek (Backwater effects from Missouri River) | From the confluence with Brushy Fork to approximately 0.74 mile upstream of the confluence with Brushy Fork | None | +526 | Unincorporated Areas of Gasconade County.
Little Berger Creek (Backwater effects from Missouri River) | From the confluence with the Missouri River to Missouri Route 100 | +513 | +515 | Unincorporated Areas of Gasconade County.
Missouri River | Approximately 0.7 mile upstream of the confluence with Little Berger Creek in Franklin County | +515 | +516 | Unincorporated Areas of Gasconade County.
| Approximately 690 feet downstream of the confluence with Shawnee Creek | +527 | +528
Richland Creek (Backwater effects from Missouri River) | From the confluence with the Gasconade River to approximately 1,816 feet downstream of the confluence with Richland Creek Tributary 2 | +524 | +526 | Unincorporated Areas of Gasconade County.
Sugar Creek (Backwater effects from Missouri River) | From approximately 0.68 mile downstream of Missouri Route J to the confluence with the Gasconade River | +524 | +526 | Unincorporated Areas of Gasconade County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Hermann
Maps are available for inspection at 1902 Jefferson Street, Hermann, MO 65041.
Unincorporated Areas of Gasconade County
Maps are available for inspection at 119 East 1st Street, Hermann, MO 65041.
Anderson County, South Carolina, and Incorporated Areas
Bailey Creek | Approximately 600 feet upstream of the confluence with Cox Creek | None | +673 | City of Anderson, Unincorporated Areas of Anderson County.
| Approximately 1.4 mile upstream of Simpson Road | None | +732
Bear Creek | At the confluence with the Rocky River | None | +556 | Unincorporated Areas of Anderson County.
| Approximately 1.7 mile upstream of Due West Highway | None | +714
Beaver Creek | At the confluence with the Rocky River | None | +571 | Unincorporated Areas of Anderson County.
| Approximately 2,300 feet upstream of the confluence with Beaver Creek Tributary 15 | None | +770
Beaver Creek Tributary 1 | At the confluence with Beaver Creek | None | +572 | Unincorporated Areas of Anderson County.
| Approximately 1,100 feet upstream of Mimosa Trail | None | +585
Beaver Creek Tributary 12 | Approximately 380 feet upstream of the confluence with Beaver Creek | None | +690 | Unincorporated Areas of Anderson County.
| Approximately 2,180 feet upstream of Kaye Drive | None | +738
Beaver Creek Tributary 13 | Approximately 270 feet upstream of the confluence with Beaver Creek | None | +704 | Unincorporated Areas of Anderson County.
| Approximately 1,050 feet upstream of Keys Street | None | +789
Beaver Creek Tributary 14 | Approximately 210 feet upstream of the confluence with Beaver Creek | None | +704 | Unincorporated Areas of Anderson County.
| Approximately 650 feet upstream of Winfield Drive | None | +776
Beaver Creek Tributary 15 | At the confluence with Beaver Creek | None | +744 | Unincorporated Areas of Anderson County.
| Approximately 3,010 feet upstream of the confluence with Beaver Creek | None | +764
Beaverdam Creek A | At the confluence with the Rocky River | None | +690 | Unincorporated Areas of Anderson County.
| Approximately 3,480 feet upstream of Welcome Road | None | +766
Beaverdam Creek A Tributary 15 | At the confluence with Beaverdam Creek A | None | +757 | Unincorporated Areas of Anderson County.
| Approximately 3,530 feet upstream of the confluence with Beaverdam Creek A | None | +774
Beaverdam Creek B Tributary 3 | Approximately 260 feet downstream of I-85 | None | +680 | Unincorporated Areas of Anderson County.
| Approximately 2,860 feet upstream of I-85 | None | +717
Big Brushy Creek | Approximately 500 feet upstream of the confluence with the Saluda River | None | +777 | Unincorporated Areas of Anderson County.
| At the Pickens County boundary | None | +901
Big Brushy Creek Tributary 17 | At the confluence with Big Brushy Creek | None | +789 | Unincorporated Areas of Anderson County.
| Approximately 4,330 feet upstream of the confluence with Big Brushy Creek | None | +809
Big Brushy Creek Tributary 23 | At the confluence with Big Brushy Creek | None | +782 | Unincorporated Areas of Anderson County.
| Approximately 550 feet upstream of Blossom Branch Road | None | +818
Big Brushy Creek Tributary 9 | At the confluence with Big Brushy Creek | None | +800 | Unincorporated Areas of Anderson County.
| Approximately 450 feet upstream of Cater Drive | None | +810
Big Creek | At the confluence with the Saluda River | None | +647 | Town of Williamston, Unincorporated Areas of Anderson County.
| Approximately 2,060 feet upstream of U.S. Route 29 | None | +871
Big Creek Tributary 13 | At the confluence with Big Creek | None | +695 | Unincorporated Areas of Anderson County.
| Approximately 2,640 feet upstream of the confluence with Big Creek | None | +716
Big Garvin Creek | At the confluence with Three and Twenty Creek | None | +726 | Unincorporated Areas of Anderson County.
| Approximately 1,950 feet upstream of Central Road | None | +788
Big Garvin Creek Tributary 3 | At the confluence with Big Garvin Creek | None | +745 | Unincorporated Areas of Anderson County.
| Approximately 630 feet upstream of Bishops Branch Road | None | +767
Big Generostee Creek | Approximately 600 feet upstream of the confluence with Lazy Branch | None | +613 | Unincorporated Areas of Anderson County.
| Just downstream of Michelin Boulevard | None | +664
Big Generostee Creek Tributary 15 | At the confluence with Big Generostee Creek | None | +624 | Unincorporated Areas of Anderson County.
| Approximately 1,860 feet upstream of the confluence with Big Generostee Creek | None | +644
Big Generostee Creek Tributary 17 | At the confluence with Big Generostee Creek | None | +627 | Unincorporated Areas of Anderson County.
| Approximately 1,980 feet upstream of the confluence with Big Generostee Creek | None | +644
Big Generostee Creek Tributary 20 | At the confluence with Big Generostee Creek | None | +634 | Unincorporated Areas of Anderson County.
| Approximately 2,160 feet upstream of the confluence with Big Generostee Creek | None | +661
Big Generostee Creek Tributary 22 | At the confluence with Big Generostee Creek | None | +641 | Unincorporated Areas of Anderson County.
| Approximately 4,180 feet upstream of the confluence with Big Generostee Creek | None | +685
Big Generostee Creek Tributary 28 | Approximately 480 feet upstream of the confluence with Big Generostee Creek | None | +670 | Unincorporated Areas of Anderson County.
| Approximately 490 feet upstream of the railroad | None | +787
Big Generostee Creek Tributary 30 | Approximately 380 feet upstream of the confluence with Big Generostee Creek | None | +679 | Unincorporated Areas of Anderson County.
| Approximately 2,540 feet upstream of the confluence with Big Generostee Creek | None | +690
Big Generostee Creek Tributary 31 | Approximately 1,000 feet upstream of the confluence with Big Generostee Creek | None | +682 | Unincorporated Areas of Anderson County.
| Approximately 2,130 feet upstream of West Shockley Fry Road | None | +794
Big Generostee Creek Tributary 32 | Approximately 960 feet upstream of the confluence with Big Generostee Creek | None | +683 | Unincorporated Areas of Anderson County.
| Approximately 100 feet upstream of New Pond Road | None | +773
Broad Mouth Creek | At the Abbeville County boundary | None | +593 | Unincorporated Areas of Anderson County.
| Approximately 2,700 feet upstream of State Highway 247 | None | +778
Broad Mouth Creek Tributary 11 | At the confluence with Broad Mouth Creek | None | +648 | Unincorporated Areas of Anderson County.
| Approximately 1,330 feet upstream of Nalley Road | None | +667
Broad Mouth Creek Tributary 11.1 | At the confluence with Broad Mouth Creek Tributary 11 | None | +651 | Unincorporated Areas of Anderson County.
| Approximately 1,380 feet upstream of the confluence with Broad Mouth Creek Tributary 11 | None | +664
Broadway Creek | At the confluence with the Rocky River | None | +597 | Unincorporated Areas of Anderson County.
| Approximately 300 feet downstream of Broadway School Road | None | +672
Brushy Creek | At the confluence with Big Brushy Creek | None | +802 | Unincorporated Areas of Anderson County.
| At the Pickens County boundary | None | +877
Brushy Creek Tributary 7 | At the confluence with Big Brushy Creek | None | +819 | Unincorporated Areas of Anderson County.
| Approximately 3,010 feet upstream of Laboone Road | None | +851
Camp Creek | Approximately 1,250 feet upstream of Cherokee Road | None | +801 | Town of Williamston.
| Approximately 1,850 feet upstream of Cherokee Road | None | +805
Canoe Creek | At the confluence with Little Generostee Creek | None | +490 | Unincorporated Areas of Anderson County.
| Approximately 2.0 miles upstream of Turpin Road | None | +635
Canoe Creek Tributary 3 | At the confluence with Canoe Creek | None | +520 | Unincorporated Areas of Anderson County.
| Approximately 2,900 feet upstream of Gene Forester Road | None | +620
Canoe Creek Tributary 6 | At the confluence with Canoe Creek | None | +544 | Unincorporated Areas of Anderson County.
| Approximately 2,800 feet upstream of Hatchery Road | None | +626
Canoe Creek Tributary 6.1 | At the confluence with Canoe Creek Tributary 6 | None | +553 | Unincorporated Areas of Anderson County.
| Approximately 260 feet upstream of Gray Circle | None | +588
Carmel Creek | At the confluence with Three and Twenty Creek | None | +796 | Unincorporated Areas of Anderson County.
| At the Pickens County boundary | None | +824
Charles Creek | At the confluence with Three and Twenty Creek | None | +804 | Unincorporated Areas of Anderson County.
| Approximately 1.2 mile upstream of Ridge Road | None | +867
Cherokee Creek | Approximately 660 feet upstream of the confluence with Cherokee Creek Tributary 17 | None | +773 | City of Belton, Unincorporated Areas of Anderson County.
| Approximately 970 feet upstream of the confluence with Cherokee Creek Tributary 17 | None | +793
Cherokee Creek Tributary 17 | At the confluence with Cherokee Creek | None | +780 | City of Belton, Unincorporated Areas of Anderson County.
| Approximately 1,090 feet upstream of Watkins Road | None | +792
Corner Creek | Approximately 400 feet upstream of the Abbeville County boundary | None | +692 | Town of Honea Path, Unincorporated Areas of Anderson County.
| Approximately 150 feet upstream of Oak Drive | None | +762
Corner Creek Tributary 2 | At the confluence with Corner Creek | None | +703 | Town of Honea Path, Unincorporated Areas of Anderson County.
| Approximately 830 feet upstream of Pinson Drive | None | +771
Corner Creek Tributary 4 | Approximately 200 feet upstream of the confluence with Corner Creek | None | +717 | Town of Honea Path.
| Approximately 460 feet upstream of Park Avenue | None | +740
Craven Creek | Approximately 400 feet upstream of the confluence with the Saluda River | None | +787 | Unincorporated Areas of Anderson County.
| Approximately 3,010 feet upstream of Cannon Lane | None | +795
Crooked Creek | At the confluence with Little Generostee Creek | None | +481 | Unincorporated Areas of Anderson County.
| Approximately 1.3 mile upstream of Sam Turner Road | None | +530
Crooked Creek Tributary 2 | At the confluence with Crooked Creek | None | +497 | Unincorporated Areas of Anderson County.
| Approximately 2,170 feet upstream of the confluence with Crooked Creek | None | +511
Cuffie Creek | At the confluence with Three and Twenty Creek | None | +729 | Unincorporated Areas of Anderson County.
| Approximately 2.1 miles upstream of Bishops Branch Road | None | +809
Deep Step Creek | At the confluence with Jordan Creek | None | +613 | Unincorporated Areas of Anderson County.
| Approximately 1,600 feet upstream of the confluence with Jordan Creek | None | +623
Double Branch | At the confluence with Three and Twenty Creek | None | +758 | Unincorporated Areas of Anderson County.
| Approximately 3,220 feet upstream of Burgess Road | None | +789
East Beards Creek | At the Abbeville County boundary | None | +505 | Unincorporated Areas of Anderson County.
| Approximately 100 feet upstream of Saxton Gin Road | None | +726
East Prong Creek | At the confluence with Little Generostee Creek | None | +518 | Unincorporated Areas of Anderson County.
| Approximately 70 feet downstream of Johnny Long Road | None | +647
East Prong Creek Tributary 11 | At the confluence with East Prong Creek | None | +578 | Unincorporated Areas of Anderson County.
| Approximately 1,340 feet upstream of Hall Road | None | +641
Eighteen Mile Creek | Approximately 1,100 feet upstream of the confluence with the Seneca River | None | +663 | Town of Pendleton, Unincorporated Areas of Anderson County.
| Approximately 80 feet upstream of Central Road | None | +709
Eighteen Mile Creek Tributary 1 | At the confluence with Eighteen Mile Creek | None | +663 | Unincorporated Areas of Anderson County.
| Approximately 2,090 feet upstream of the confluence with Eighteen Mile Creek | None | +663
Eighteen Mile Creek Tributary 3 | At the confluence with Eighteen Mile Creek | None | +664 | Unincorporated Areas of Anderson County.
| Approximately 2,780 feet upstream of the confluence with Eighteen Mile Creek | None | +670
Eighteen Mile Creek Tributary 4 | At the confluence with Eighteen Mile Creek | None | +665 | Unincorporated Areas of Anderson County.
| Approximately 2,410 feet upstream of the confluence with Eighteen Mile Creek | None | +678
Eighteen Mile Creek Tributary 5 | At the confluence with Eighteen Mile Creek | None | +665 | Unincorporated Areas of Anderson County.
| Approximately 2,960 feet upstream of the confluence with eighteen Mile Creek | None | +674
Eighteen Mile Creek Tributary 6 | At the confluence with Eighteen Mile Creek | None | +667 | Unincorporated Areas of Anderson County.
| Approximately 2,350 feet upstream of the confluence with Eighteen Mile Creek | None | +677
Eighteen Mile Creek Tributary 7 | At the confluence with Eighteen Mile Creek | None | +667 | Unincorporated Areas of Anderson County.
| Approximately 2,060 feet upstream of Fants Grove Circle | None | +692
Eighteen Mile Creek Tributary 10 | At the confluence with Eighteen Mile Creek | None | +671 | Unincorporated Areas of Anderson County.
| Approximately 3,710 feet upstream of the confluence with Eighteen Mile Creek | None | +734
Eighteen Mile Creek Tributary 11 | At the confluence with Eighteen Mile Creek | None | +671 | Unincorporated Areas of Anderson County.
| Approximately 1.6 mile upstream of the confluence with Eighteen Mile Creek | None | +734
Eighteen Mile Creek Tributary 12 | At the confluence with Eighteen Mile Creek | None | +674 | Unincorporated Areas of Anderson County.
| Approximately 3,380 feet upstream of the confluence with Eighteen Mile Creek | None | +694
Eighteen Mile Creek Tributary 13 | At the confluence with Eighteen Mile Creek | None | +680 | Unincorporated Areas of Anderson County.
| Approximately 1,110 feet upstream of Fants Grove Road | None | +718
Eighteen Mile Creek Tributary 13.2 | At the confluence with Eighteen Mile Creek Tributary 13 | None | +697 | Unincorporated Areas of Anderson County.
| Approximately 3,020 feet upstream of the confluence with Eighteen Mile Creek Tributary 13 | None | +721
Eighteen Mile Creek Tributary 18 | At the confluence with Eighteen Mile Creek | None | +687 | Unincorporated Areas of Anderson County.
| Approximately 2,480 feet upstream of West Queen Street | None | +727
Eighteen Mile Creek Tributary A | At the confluence with Eighteen Mile Creek | None | +688 | Town of Pendleton, Unincorporated Areas of Anderson County.
| Approximately 4,160 feet upstream of the confluence with Eighteen Mile Creek | None | +730
Eighteen Mile Creek Tributary A Tributary 1 | At the confluence with Eighteen Mile Creek Tributary A | None | +701 | Town of Pendleton.
| Approximately 1.0 mile upstream of the confluence with Eighteen Mile Creek Tributary A | None | +768
Eighteen Mile Creek Tributary B | At the confluence with Eighteen Mile Creek | None | +695 | Town of Pendleton, Unincorporated Areas of Anderson County.
| Approximately 850 feet upstream of Hamberg Street | None | +738
Eighteen Mile Creek Tributary B Tributary 2 | At the confluence with Eighteen Mile Creek Tributary B | None | +738 | Town of Pendleton.
| Approximately 1,000 feet upstream of Crenshaw Street | None | +796
First Creek | At the confluence with the Rocky River | None | +549 | Unincorporated Areas of Anderson County.
| Approximately 400 feet upstream of First Creek Road | None | +597
First Creek Tributary 1 | At the confluence with First Creek | None | +549 | Unincorporated Areas of Anderson County.
| Approximately 1,930 feet upstream of the confluence with First Creek | None | +557
Five Mile Creek | At the confluence with Big Generostee Creek | None | +648 | Unincorporated Areas of Anderson County.
| Approximately 2,480 feet upstream of New Prospect Church Road | None | +725
Five Mile Creek Tributary 1 | At the confluence with Five Mile Creek | None | +657 | Unincorporated Areas of Anderson County.
| Approximately 1.2 mile upstream of Jones Drive | None | +744
Five Mile Creek Tributary 5 | At the confluence with Five Mile Creek | None | +688 | Unincorporated Areas of Anderson County.
| Approximately 2,070 feet upstream of Country Meadow Road | None | +712
Five Mile Creek Tributary 9 | At the confluence with Five Mile Creek | None | +718 | Unincorporated Areas of Anderson County.
| Approximately 1,130 feet upstream of the confluence with Five Mile Creek | None | +741
Governors Creek | At the confluence with Rocky Creek | None | +554 | Unincorporated Areas of Anderson County.
| Approximately 2,700 feet upstream of Gillespie Road | None | +624
Governors Creek Tributary 4 | At the confluence with Governors Creek | None | +583 | Unincorporated Areas of Anderson County.
| Approximately 4,550 feet upstream of the confluence with Governors Creek | None | +639
Hartwell Reservoir Tributary | At the confluence with Town Creek A | None | +663 | City of Anderson, Unincorporated Areas of Anderson County.
| Approximately 1,100 feet downstream of Valley Drive | None | +690
Hembree Creek | At the confluence with Six and Twenty Creek | None | +666 | City of Anderson, Unincorporated Areas of Anderson County.
| Approximately 3,820 feet upstream of Salem Church Road | None | +724
Hencoop Creek | At the confluence with the Rocky River | None | +558 | Unincorporated Areas of Anderson County.
| Approximately 500 feet upstream of Due West Highway | None | +615
Hornbuckle Creek | At the confluence with Big Brushy Creek | None | +806 | Unincorporated Areas of Anderson County.
| Approximately 160 feet upstream of Sitton Hill Road | None | +829
Hurricane Creek A | At the confluence with Six and Twenty Creek | None | +666 | Unincorporated Areas of Anderson County.
| Approximately 3,960 feet upstream of I-85 | None | +706
Hurricane Creek B | At the confluence with the Saluda River | None | +739 | Unincorporated Areas of Anderson County.
| Approximately 2,590 feet upstream of State Highway 17 | None | +849
Hurricane Creek B Tributary 11 | At the confluence with Hurricane Creek B | None | +817 | Unincorporated Areas of Anderson County.
| Approximately 3,350 feet upstream of the confluence with Hurricane Creek B | None | +829
Hurricane Creek B Tributary 7 | At the confluence with Hurricane Creek B | None | +763 | Unincorporated Areas of Anderson County.
| Approximately 3,330 feet upstream of the confluence with Hurricane B | None | +784
Hurricane Creek B Tributary 8 | At the confluence with Hurricane Creek B | None | +765 | Unincorporated Areas of Anderson County.
| Approximately 1,660 feet upstream of the confluence with Hurricane Creek B | None | +772
Indian Branch | At the confluence with Little Generostee Creek | None | +551 | Unincorporated Areas of Anderson County.
| Approximately 1,400 feet upstream of Pollard Road | None | +616
Indian Branch Tributary 3 | At the confluence with Indian Branch | None | +573 | Unincorporated Areas of Anderson County.
| Approximately 3,440 feet upstream of the confluence with Indian Branch | None | +600
Jones Creek | At the confluence with Six and Twenty Creek | None | +675 | Unincorporated Areas of Anderson County.
| Approximately 100 feet downstream of Scotts Bridge Road | None | +692
Jones Creek Tributary 1 | At the confluence with Jones Creek | None | +683 | Unincorporated Areas of Anderson County.
| Approximately 1,850 feet upstream of I-85 | None | +714
Jordan Creek | At the confluence with Wilson Creek | None | +561 | Unincorporated Areas of Anderson County.
| Approximately 1,000 feet upstream of Hebron Church Road | None | +639
Jordan Creek Tributary 1 | At the confluence with Jordan Creek | None | +569 | Unincorporated Areas of Anderson County.
| Approximately 1,500 feet upstream of Aubrey Hardy Road | None | +583
Little Beaverdam Creek | Approximately 600 feet upstream of Hattons Ford Road | None | +662 | Unincorporated Areas of Anderson County.
| At the Oconee County boundary | None | +691
Little Beaverdam Creek A | At the confluence with the Rocky River | None | +697 | Unincorporated Areas of Anderson County.
| Approximately 4,850 feet upstream of Welcome Road | None | +786
Little Beaverdam Creek Tributary 2 | At the confluence with Little Beaverdam Creek | None | +677 | Unincorporated Areas of Anderson County.
| Approximately 3,510 feet upstream of the confluence with Little Beaverdam Creek | None | +692
Little Beaverdam Creek Tributary 4 | At the confluence with Little Beaverdam Creek | None | +669 | Unincorporated Areas of Anderson County.
| Approximately 2,200 feet upstream of Gaines Road | None | +697
Little Beaverdam Creek Tributary 5 | At the confluence with Little Beaverdam Creek | None | +668 | Unincorporated Areas of Anderson County.
| Approximately 4,470 feet upstream of Fred Dobbins Road | None | +705
Little Beaverdam Creek Tributary 6 | At the confluence with Little Beaverdam Creek | None | +668 | Unincorporated Areas of Anderson County.
| Approximately 2,750 feet upstream of Bradberry Road | None | +710
Little Beaverdam Creek Tributary 7 | At the confluence with Little Beaverdam Creek | None | +664 | Unincorporated Areas of Anderson County.
| Approximately 2,870 feet upstream of the confluence with Little Beaverdam Creek | None | +688
Little Beaverdam Creek Tributary 8 | At the confluence with Little Beaverdam Creek | None | +663 | Unincorporated Areas of Anderson County.
| Approximately 1,950 feet upstream of Slaton Road | None | +671
Little Brushy Creek | At the confluence with Big Brushy Creek | None | +793 | Unincorporated Areas of Anderson County.
| Approximately 1,270 feet upstream of Mountain Springs Road | None | +846
Little Garvin Creek | At the confluence with Big Garvin Creek | None | +731 | Unincorporated Areas of Anderson County.
| Approximately 2,750 feet upstream of Bishops Branch Road | None | +764
Little Generostee Creek | At the Elbert County, Georgia, boundary | None | +480 | Town of Starr, Unincorporated Areas of Anderson County.
| Approximately 3,400 feet upstream of Erwin Street | None | +732
Little Generostee Creek Tributary 6 | At the confluence with Little Generostee Creek | None | +648 | Unincorporated Areas of Anderson County.
| Approximately 2,600 feet upstream of the confluence with Little Generostee Creek Tributary 6.2 | None | +732
Little Generostee Creek Tributary 6.2 | At the confluence with Little Generostee Creek Tributary 6 | None | +707 | Unincorporated Areas of Anderson County.
| Approximately 1,600 feet upstream of the confluence with Little Generostee Creek Tributary 6 | None | +707
Little Generostee Creek Tributary 8 | At the confluence with Little Generostee Creek | None | +623 | Unincorporated Areas of Anderson County.
| Approximately 2,430 feet upstream of the confluence with Little Generostee Creek | None | +655
Little Generostee Creek Tributary 9 | At the confluence with Little Generostee Creek | None | +565 | Unincorporated Areas of Anderson County.
| Approximately 3,950 feet upstream of the confluence with Little Generostee Creek | None | +587
Long Branch A | At the Abbeville County boundary | None | +591 | Unincorporated Areas of Anderson County.
| Approximately 2,400 feet upstream of Liberty Road | None | +618
Middle Branch Brushy Creek | At the confluence with Big Brushy Creek | None | +863 | Unincorporated Areas of Anderson County.
| At the Pickens County boundary | None | +875
Milwee Creek | At the confluence with Three and Twenty Creek | None | +696 | Unincorporated Areas of Anderson County.
| Approximately 1.0 mile upstream of Gentry Road | None | +868
Mountain Creek | Approximately 30 feet upstream of the confluence with Big Generostee Creek | None | +554 | Unincorporated Areas of Anderson County.
| Approximately 1.6 mile upstream of Mountain Church Creek Road | None | +724
Mountain Creek Tributary 11 | At the confluence with Mountain Creek | None | +594 | Unincorporated Areas of Anderson County.
| Approximately 1.2 mile upstream of the confluence with Mountain Creek | None | +675
Mountain Creek Tributary 5 | At the confluence with Mountain Creek | None | +572 | Unincorporated Areas of Anderson County.
| Approximately 4,500 feet upstream of Carl Baker Road | None | +617
Mountain Creek Tributary 6 | At the confluence with Mountain Creek | None | +579 | Unincorporated Areas of Anderson County.
| Approximately 3,680 feet upstream of the confluence with Mountain Creek | None | +598
Mountain Creek Tributary 7 | At the confluence with Mountain Creek | None | +580 | Unincorporated Areas of Anderson County.
| Approximately 2,350 feet upstream of the confluence with Mountain Creek | None | +601
Mountain Creek Tributary 9 | At the confluence with Mountain Creek | None | +586 | Unincorporated Areas of Anderson County.
| Approximately 150 feet upstream of Chris De Lane | None | +652
Mountain Creek Tributary 9.3 | At the confluence with Mountain Creek Tributary 9 | None | +602 | Unincorporated Areas of Anderson County.
| Approximately 2,890 feet upstream of Martin Road | None | +624
Mountain Creek Tributary 9.5 | At the confluence with Mountain Creek Tributary 9 | None | +618 | Unincorporated Areas of Anderson County.
| Approximately 1.8 mile upstream of the confluence with Mountain Creek Tributary 9 | None | +743
Mountain Creek Tributary 9.8 | At the confluence with Mountain Creek Tributary 9 | None | +636 | Unincorporated Areas of Anderson County.
| Approximately 2,510 feet upstream of the confluence with Mountain Creek Tributary 9 | None | +653
Neals Creek | At the confluence with Broadway Creek | None | +623 | Unincorporated Areas of Anderson County.
| Approximately 900 feet upstream of State Highway 252 | None | +731
Nesbit Creek | Approximately 290 feet upstream of the confluence with Beaver Creek | None | +619 | Unincorporated Areas of Anderson County.
| Approximately 1,840 feet upstream of the confluence with Beaver Creek | None | +624
Pea Creek | At the confluence with Broadway Creek | None | +635 | Unincorporated Areas of Anderson County.
| Approximately 1,360 feet upstream of Sherwood Drive | None | +801
Pickens Creek | At the confluence with Three and Twenty Creek | None | +786 | Unincorporated Areas of Anderson County.
| Approximately 1,370 feet upstream of Hunt Road | None | +874
Pickens Creek Tributary 6 | At the confluence with Pickens Creek | None | +828 | Unincorporated Areas of Anderson County.
| Approximately 530 feet upstream of Lake Road | None | +860
Richland Creek | At the confluence with Big Generostee Creek | None | +633 | Unincorporated Areas of Anderson County.
| Approximately 1.4 mile upstream of U.S. Route 29 | None | +740
Richland Creek Tributary 3 | At the confluence with Richland Creek | None | +652 | Unincorporated Areas of Anderson County.
| Just downstream of Richland Drive | None | +652
Richland Creek Tributary 4 | At the confluence with Richland Creek | None | +670 | Unincorporated Areas of Anderson County.
| Approximately 190 feet upstream of Richland Drive | None | +670
Rocky Branch | At the confluence with Big Generostee Creek | None | +638 | Unincorporated Areas of Anderson County.
| Approximately 1,630 feet upstream of Strawberry Road | None | +729
Rocky River | At the Abbeville County boundary | None | +548 | City of Anderson, Unincorporated Areas of Anderson County.
| Approximately 2,180 feet upstream of the confluence with Little Beaverdam Creek A | None | +707
Rocky River Tributary 1 | At the confluence with the Rocky River | None | +548 | Unincorporated Areas of Anderson County.
| Approximately 1.3 mile upstream of the confluence with the Rocky River | None | +578
Rocky River Tributary 18 | At the confluence with the Rocky River | None | +578 | Unincorporated Areas of Anderson County.
| Approximately 2,600 feet upstream of Due West Highway | None | +600
Rocky River Tributary 20 | At the confluence with the Rocky River | None | +591 | Unincorporated Areas of Anderson County.
| Approximately 2,000 feet upstream of Scott Road | None | +598
Rocky River Tributary 27 | Approximately 400 feet upstream of the confluence with the Rocky River | None | +651 | Unincorporated Areas of Anderson County.
| Approximately 2,300 feet upstream of the confluence with Rocky River Tributary 27.3 | None | +776
Rocky River Tributary 27.3 | At the confluence with Rocky River Tributary 27 | None | +751 | Unincorporated Areas of Anderson County.
| Approximately 1,410 feet upstream of George Albert Lake Road | None | +781
Rocky River Tributary 28 | Approximately 150 feet downstream of Lawrence Road | None | +652 | Unincorporated Areas of Anderson County.
| Approximately 1,000 feet upstream of Lawrence Road | None | +665
Salem Creek | Approximately 1,300 feet upstream of the confluence with Six and Twenty Creek | None | +660 | Unincorporated Areas of Anderson County.
| Approximately 7,900 feet upstream of Centerville Road | None | +671
Salem Creek Tributary 4 | Approximately 600 feet upstream of the confluence with Salem Creek | None | +690 | Unincorporated Areas of Anderson County.
| Approximately 590 feet upstream of Quail Ridge Road | None | +695
Saluda River | At the Abbeville/Greenville county boundary | None | +568 | Town of Pelzer, Unincorporated Areas of Anderson County.
| Approximately 1,500 feet downstream of the confluence with Saluda River Tributary 41 | None | +750
Saluda River Tributary 1 | Approximately 250 feet upstream of the confluence with the Saluda River | None | +804 | Unincorporated Areas of Anderson County.
| Approximately 1.29 mile upstream of Sterling Bridge Road | None | +898
Saluda River Tributary 41 | Approximately 100 feet upstream of the confluence with the Saluda River | None | +757 | Unincorporated Areas of Anderson County.
| Approximately 500 feet upstream of Iler Street | None | +757
Saluda River Tributary 42 | At the confluence with the Saluda River | None | +747 | Unincorporated Areas of Anderson County.
| Approximately 100 feet upstream of Osteen Hill Road | None | +761
Saluda River Tributary 51 | At the confluence with the Saluda River | None | +732 | Unincorporated Areas of Anderson County.
| Approximately 1,800 feet upstream of Holiday Street | None | +784
Saluda River Tributary 52 | At the confluence with the Saluda River | None | +732 | Unincorporated Areas of Anderson County.
| Approximately 1,160 feet upstream of Old River Road | None | +736
Saluda River Tributary 62 | At the confluence with the Saluda River | None | +702 | Unincorporated Areas of Anderson County.
| Approximately 2,600 feet upstream of the confluence with the Saluda River | None | +730
Saluda River Tributary 103.1 | At the confluence with the Saluda River | None | +639 | Unincorporated Areas of Anderson County.
| Approximately 3,600 feet upstream of the confluence with the Saluda River | None | +661
Savannah River | At the Abbeville County boundary | None | +480 | Unincorporated Areas of Anderson County.
| Just downstream of the Hartwell Dam | None | +480
Savannah River Tributary 23 | At the Hart County, Georgia, boundary | None | +480 | Unincorporated Areas of Anderson County.
| Approximately 5,000 feet upstream of the Hart County, Georgia, boundary | None | +490
Shanklin Creek Tributary A | Approximately 650 feet upstream of the confluence with Shanklin Creek | None | +768 | Town of Pendleton.
| Approximately 260 feet upstream of East Queen Street | None | +792
Silver Brook | Approximately 500 feet upstream of the confluence with the Rocky River | None | +664 | City of Anderson, Unincorporated Areas of Anderson County.
| Approximately 350 feet upstream of White Street | None | +742
Silver Brook Tributary 2 | At the confluence with Silver Brook | None | +703 | City of Anderson, Unincorporated Areas of Anderson County.
| Approximately 140 feet upstream of Hall Street | None | +774
Six and Twenty Creek | Approximately 4,670 feet downstream of the confluence with Hurricane Creek A | None | +665 | Unincorporated Areas of Anderson County.
| Approximately 250 feet upstream of the confluence with Six and Twenty Creek Tributary 16 | None | +668
Six and Twenty Creek Tributary 10 | At the confluence with Six and Twenty Creek | None | +667 | Unincorporated Areas of Anderson County.
| Approximately 3,610 feet upstream of Manse Jolly Road | None | +676
Six and Twenty Creek Tributary 11 | At the confluence with Six and Twenty Creek | None | +667 | Unincorporated Areas of Anderson County.
| Approximately 2,050 feet upstream of the confluence with Six and Twenty Creek | None | +676
Six and Twenty Creek Tributary 12 | At the confluence with Six and Twenty Creek | None | +667 | Unincorporated Areas of Anderson County.
| Approximately 230 feet upstream of Harris Bridge Road | None | +696
Six and Twenty Creek Tributary 15 | At the confluence with Six and Twenty Creek | None | +668 | Unincorporated Areas of Anderson County.
| Approximately 3,770 feet upstream of the confluence with Six and Twenty Creek | None | +684
Six and Twenty Creek Tributary 16 | At the confluence with Six and Twenty Creek | None | +668 | Unincorporated Areas of Anderson County.
| Approximately 4,390 feet upstream of Slater Road | None | +701
Six and Twenty Creek Tributary 19 | Approximately 30 feet upstream of the confluence with Six and Twenty Creek | None | +679 | Unincorporated Areas of Anderson County.
| Approximately 1,800 feet upstream of Dalrymple Road | None | +698
Three and Twenty Creek | Approximately 160 feet upstream of the confluence with Six and Twenty Creek | None | +661 | Unincorporated Areas of Anderson County.
| At the Pickens County boundary | None | +821
Three and Twenty Creek Tributary 1 | At the confluence with Three and Twenty Creek | None | +661 | Unincorporated Areas of Anderson County.
| Approximately 4,490 feet upstream of the confluence with Three and Twenty Creek | None | +686
Three and Twenty Creek Tributary 3 | At the confluence with Three and Twenty Creek | None | +663 | Unincorporated Areas of Anderson County.
| Approximately 1,040 feet upstream of Rock Creek Road | None | +688
Three and Twenty Creek Tributary 5 | At the confluence with Three and Twenty Creek | None | +665 | Unincorporated Areas of Anderson County.
| Approximately 1,480 feet upstream of Hix Road | None | +706
Three and Twenty Creek Tributary 5.1 | At the confluence with Three and Twenty Creek Tributary 5 | None | +665 | Unincorporated Areas of Anderson County.
| Approximately 2,410 feet upstream of the confluence with Three and Twenty Creek Tributary 5 | None | +677
Three and Twenty Creek Tributary 6 | At the confluence with Three and Twenty Creek | None | +665 | Unincorporated Areas of Anderson County.
| Approximately 2,550 feet upstream of the confluence with Three and Twenty Creek | None | +675
Three and Twenty Creek Tributary 7 | At the confluence with Three and Twenty Creek | None | +666 | Unincorporated Areas of Anderson County.
| Approximately 4,880 feet upstream of Sandy Springs Road | None | +685
Three and Twenty Creek Tributary 8 | At the confluence with Three and Twenty Creek | None | +668 | Unincorporated Areas of Anderson County.
| Approximately 3,900 feet upstream of the confluence with Three and Twenty Creek | None | +696
Three and Twenty Creek Tributary 14 | At the confluence with Three and Twenty Creek | None | +686 | Unincorporated Areas of Anderson County.
| Approximately 400 feet upstream of Lafrance Road | None | +714
Three and Twenty Creek Tributary 15 | At the confluence with Three and Twenty Creek | None | +692 | Unincorporated Areas of Anderson County.
| Approximately 1,950 feet upstream of Lafrance Road | None | +730
Three and Twenty Creek Tributary 29 | At the confluence with Three and Twenty Creek | None | +744 | Unincorporated Areas of Anderson County.
| Approximately 2,000 feet upstream of Olden Porter Road | None | +762
Three and Twenty Creek Tributary 34 | At the confluence with Three and Twenty Creek | None | +747 | Unincorporated Areas of Anderson County.
| Approximately 90 feet upstream of Six and Twenty Road | None | +789
Three and Twenty Creek Tributary 43 | At the confluence with Three and Twenty Creek | None | +778 | Unincorporated Areas of Anderson County.
| Approximately 1.0 mile upstream of Slab Bridge Road | None | +808
Threemile Creek | At the confluence with Big Generostee Creek | None | +653 | Unincorporated Areas of Anderson County.
| Approximately 390 feet upstream of Michelin Boulevard | None | +726
Toney Creek | At the confluence with the Saluda River | None | +645 | Unincorporated Areas of Anderson County.
| Approximately 3,700 feet upstream of Cannon Bottom Road | None | +663
Toney Creek Tributary 1 | At the confluence with Toney Creek | None | +645 | Unincorporated Areas of Anderson County.
| Approximately 2,600 feet upstream of Rector Road | None | +676
Town Creek A | At the confluence with Six and Twenty Creek | None | +667 | Unincorporated Areas of Anderson County.
| Approximately 140 feet upstream of Foxcroft Way | None | +685
Town Creek B | At the confluence with Three and Twenty Creek | None | +715 | Town of Pendleton, Unincorporated Areas of Anderson County.
| Approximately 3,170 feet upstream of Cherry Street | None | +778
Town Creek Tributary | At the confluence with Town Creek B | None | +734 | Town of Pendleton, Unincorporated Areas of Anderson County.
| Approximately 4,440 feet upstream of Westinghouse Road | None | +783
Tributary of Eighteen Mile Creek | At the confluence with Eighteen Mile Creek | None | +705 | Town of Pendleton, Unincorporated Areas of Anderson County.
| Approximately 3,120 feet upstream of the confluence with Eighteen Mile Creek | None | +729
Tributary A of Broad Mouth Creek | At the confluence with Broad Mouth Creek | None | +703 | City of Belton, Unincorporated Areas of Anderson County.
| Approximately 4,600 feet upstream of Blake Dairy Road | None | +770
Tributary A of Broad Mouth Creek Tributary 10 | At the confluence with Tributary A of Broad Mouth Creek | None | +769 | City of Belton, Unincorporated Areas of Anderson County.
| Approximately 1,000 feet upstream of the confluence with Tributary A of Broad Mouth Creek | None | +776
Tributary C of Broad Mouth Creek | At the confluence with Broad Mouth Creek | None | +637 | Town of Honea Path, Unincorporated Areas of Anderson County.
| Approximately 600 feet upstream of Carolina Avenue | None | +757
Tributary C of Broad Mouth Creek Tributary 3 | At the confluence with Tributary C of Broad Mouth Creek | None | +706 | Town of Honea Path.
| Approximately 800 feet upstream of Carter Street | None | +753
Tributary C of Broad Mouth Creek Tributary 4 | At the confluence with Tributary C of Broad Mouth Creek | None | +715 | Town of Honea Path.
| Approximately 1,350 feet upstream of Maryland Avenue | None | +740
Tugaloo Creek | At the confluence with Beaver Creek | None | +591 | Unincorporated Areas of Anderson County.
| Approximately 3,100 feet upstream of Airline Road | None | +637
Unnamed Tributary Beaverdam Creek B Tributary 3 | Approximately 200 feet upstream of the confluence with Beaverdam Creek B Tributary 3 | None | +662 | Unincorporated Areas of Anderson County.
| Approximately 2,400 feet upstream of the confluence with Beaverdam Creek B | None | +700
Unnamed Tributary | Approximately 50 feet upstream of the confluence with Big Generostee Creek | None | +528 | Unincorporated Areas of Anderson County.
| Approximately 1,780 feet upstream of the confluence with Big Generostee Creek | None | +541
Unnamed Tributary 1 | At the Pickens County boundary | None | +727 | Unincorporated Areas of Anderson County.
| Approximately 2,380 feet upstream of the Pickens County boundary | None | +749
Unnamed Tributary of Little Beaverdam Creek Tributary 5 | At the confluence with Little Beaverdam Creek Tributary 5 | None | +678 | Unincorporated Areas of Anderson County.
| Approximately 4,000 feet upstream of the confluence with Little Beaverdam Creek Tributary 5 | None | +712
Unnamed Tributary of Middle Branch | At the confluence with Middle Branch Brushy Creek | None | +872 | Unincorporated Areas of Anderson County.
| Approximately 2,240 feet upstream of the confluence with Middle Branch Brushy Creek | None | +904
Weems Creek | Approximately 50 feet upstream of the confluence with Big Generostee Creek | None | +508 | Unincorporated Areas of Anderson County.
| Approximately 2,000 feet upstream of Lenox Drive | None | +727
Weems Creek Tributary 12 | At the confluence with Weems Creek | None | +563 | Unincorporated Areas of Anderson County.
| Approximately 3,040 feet upstream of the confluence with Weems Creek | None | +582
Weems Creek Tributary 17 | At the confluence with Weems Creek | None | +527 | Unincorporated Areas of Anderson County.
| Approximately 2,270 feet upstream of the confluence with Weems Creek | None | +541
West Beards Creek | At the Abbeville County boundary | None | +506 | Unincorporated Areas of Anderson County.
| Approximately 1,400 feet upstream of Pine Ridge Road | None | +667
West Prong Broad Mouth Creek | At the confluence with Broad Mouth Creek | None | +742 | Unincorporated Areas of Anderson County.
| Approximately 40 feet upstream of State Highway 247 | None | +760
Whitner Creek | Approximately 70 feet upstream of Lee Street | None | +746 | City of Anderson
| Approximately 100 feet upstream of Blair Street | None | +766
Wilson Creek | At the Abbeville County boundary | None | +519 | Unincorporated Areas of Anderson County.
| Approximately 230 feet upstream of Wesley Court | None | +775
Wilson Creek Tributary 17 | At the confluence with Wilson Creek | None | +595 | Unincorporated Areas of Anderson County.
| Approximately 3,600 feet upstream of the confluence with Wilson Creek | None | +614
Wilson Creek Tributary 21 | At the confluence with Wilson Creek | None | +628 | Unincorporated Areas of Anderson County.
| Approximately 1,650 feet upstream of 1st Avenue | None | +642
Wilson Creek Tributary 22 | At the confluence with Wilson Creek | None | +637 | Unincorporated Areas of Anderson County.
| Approximately 640 feet upstream of 1st Avenue | None | +664
Wilson Creek Tributary 24 | At the confluence with Wilson Creek | None | +650 | Unincorporated Areas of Anderson County.
| Approximately 1,750 feet upstream of the confluence of Wilson Creek Tributary 24.5 | None | +718
Wilson Creek Tributary 31 | At the confluence with Wilson Creek | None | +689 | Unincorporated Areas of Anderson County.
| Approximately 1,800 feet upstream of Farmer Road | None | +727
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Anderson
Maps are available for inspection at 401 South Main Street, Anderson, SC 29624.
City of Belton
Maps are available for inspection at 306 Anderson Street, Belton, SC 29627.
Town of Honea Path
Maps are available for inspection at 30 North Main Street, Honea Path, SC 29654.
Town of Pelzer
Maps are available for inspection at 103 Courtney Street, Pelzer, SC 29669.
Town of Pendleton
Maps are available for inspection at 301 Greenville Street, Pendleton, SC 29670.
Town of Starr
Maps are available for inspection at 7725 State Highway 81, Starr, SC 29684.
Town of Williamston
Maps are available for inspection at 12 West Main Street, Williamston, SC 29697.
Unincorporated Areas of Anderson County
Maps are available for inspection at 101 South Main Street, Anderson, SC 29622.
Taylor County, West Virginia, and Incorporated Areas
Booths Creek | Just downstream of the county boundary | None | +959 | Unincorporated Areas of Taylor County.
| At the confluence with Corbin Branch and Thomas Fork | None | +1,000
Corbin Branch | At the confluence with Booths Creek | None | +1,000 | Unincorporated Areas of Taylor County.
| Approximately 300 feet downstream of Nuzum Road | None | +1,082
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Taylor County
Maps are available for inspection at the Taylor County Courthouse, 214 West Main Street, Grafton, WV 26354.
Lincoln County, Wisconsin, and Incorporated Areas
Copper River | Approximately 0.8 mile upstream of the confluence with the Wisconsin River | None | +1,279 | Unincorporated Areas of Lincoln County.
| County Highway E | None | +1,316
Prairie River | Approximately 0.3 mile downstream of Town Hall Road | None | +1,436 | Unincorporated Areas of Lincoln County.
| At State Highway 17 | None | +1,476
Wisconsin River | Approximately 0.4 mile upstream of the confluence with the Pine River | +1,229 | +1,228 | City of Merrill, Unincorporated Areas of Lincoln County.
| Approximately 990 feet downstream of South Center Avenue | +1,243 | +1,244
| Approximately 2.5 miles downstream of the Grandfather Dam | +1,294 | +1,293
| At the downstream side of the Grandfather Dam | +1,308 | +1,368
| Approximately 0.7 mile upstream of County Highway E | +1,402 | +1,401
| At the downstream side of the Grandmother Dam | +1,410 | +1,406
| Approximately 0.9 mile upstream of the confluence with Little Pine Creek | +1,423 | +1,422
| Approximately 0.4 mile downstream of the Tomahawk Dam | +1,428 | +1,429
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Merrill
Maps are available for inspection at 1004 East 1st Street, Merrill, WI 54452.
Unincorporated Areas of Lincoln County
Maps are available for inspection at 804 North Sales Street, Merrill, WI 54452.

(Catalog of Federal Domestic Assistance No. 97.022, “Flood Insurance.”)

Dated: May 11, 2010.
Sandra K. Knight,
Deputy Federal Insurance and Mitigation Administrator, Mitigation, Department of Homeland Security, Federal Emergency Management Agency.

[FR Doc. 2010-12491 Filed 5-24-10; 8:45 am]

BILLING CODE 9110-12-P